NUCLEAR REGULATORY COMMISSION

[Docket Nos. 50-325 and 50-324]

In the Matter of Carolina Power & Light Company (Brunswick Steam Electric Plant, Units 1 and 2); Exemption

I

The Carolina Power & Light Company (CP&L) is the holder of Facility Operating License Nos. DPR-71 and DPR-62, which authorize operation of the Brunswick Steam Electric Plant, Units 1 and 2. The licenses provide, among other things, that the facility is subject to all rules, regulations, and orders of the U.S. Nuclear Regulatory Commission (NRC, the Commission) now or hereafter in effect.

The facility consists of two boiling water reactors located in Brunswick County in North Carolina.

II

Title 10 of the Code of Federal Regulations, part 50, Section 36a(a)(2) (10 CFR 50.36a(a)(2)) requires each licensee to submit a report to the Commission annually that specifies the quantity of each of the principal radionuclides released to unrestricted areas in liquid and in gaseous effluents during the previous 12 months, including any other information as may be required by the Commission to estimate maximum potential annual radiation doses to the public resulting from effluent releases. The report must be submitted as specified in § 50.4, and the time between submission of the reports must be no longer than 12 months. CP&L has proposed an amendment to Technical Specification 5.6.3 to change the submittal date for the report to “prior to May 1.” The approval of the amendment necessitates the required submittal date for the year 2000 report be changed to “prior to May 1, 2001.”

In summary, the exemption does not affect the information required to be submitted or the time period the report covers, only the date the report is submitted.

III

Pursuant to 10 CFR 50.12, the Commission may, upon application by any interested person or upon its own initiative, grant exemptions from the requirements of 10 CFR part 50, when: (1) the exemptions are authorized by law, will not present an undue risk to public health or safety, and are consistent with the common defense and security; and (2) when special circumstances are present. These circumstances include the special circumstances that would provide only temporary relief from the applicable regulation and the license or applicant has made good faith efforts to comply with the regulation.

Therefore, the staff concludes that granting an exemption under the special circumstances of 10 CFR 50.12(a)(2)(v) is appropriate.

IV

Accordingly, the Commission has determined that, pursuant to 10 CFR 50.12(a), the exemption is authorized by law, will not endanger life or property or common defense and security, and is, otherwise, in the public interest. Also, special circumstances are present. Therefore, the Commission hereby grants CP&L an exemption from the requirements of 10 CFR 50.36a9a)(2), for Brunswick Steam Electric Plant, Units 1 and 2.

Pursuant to 10 CFR 51.32, the Commission has determined that the granting of this exemption will not have a significant effect on the quality of the human environment (66 FR 8813).

This exemption is effective upon issuance.

Dated at Rockville, Maryland, this 6th day of February 2001.
For the Nuclear Regulatory Commission.
John A. Zwolinski,
Director, Division of Licensing Project Management, Office of Nuclear Reactor Regulation.

[FR Doc. 01-3502 Filed 2-9-01; 8:45 am]

BILLING CODE 7590-01-P